DEPARTMENT OF THE INTERIOR

National Park Service

[NPS-WASO-NAGPRA-NPS0039407; PPWOCRADN0-PCU00RP14.R50000]

Notice of Intended Repatriation: Illinois State Museum, Springfield, IL

AGENCY: National Park Service, Interior.

ACTION: Notice.

SUMMARY: In accordance with the Native American Graves Protection and Repatriation Act (NAGPRA), the Illinois State Museum intends to repatriate certain cultural items that meet the definition of unassociated funerary objects and that have a cultural affiliation with the Indian Tribes or Native Hawaiian organizations in this notice.

DATES: Repatriation of the cultural items in this notice may occur on or after April 16, 2025.

ADDRESSES: Dr. Brooke M. Morgan, Illinois State Museum Research & Collections Center, 1011 East Ash Street, Springfield, IL 62703, telephone (217) 785-8930, email Brooke.Morgan@illinois.gov.

SUPPLEMENTARY INFORMATION: This notice is published as part of the National Park Service's administrative responsibilities under NAGPRA. The determinations in this notice are the sole responsibility of the Illinois State Museum, and additional information on the determinations in this notice, including the results of consultation, can be found in the summary or related records. The National Park Service is not responsible for the determinations in this notice.

Abstract of Information Available

A total of 19 cultural items have been requested for repatriation. The 19 unassociated funerary objects are five cuprous coils, one copper-stained leather wrap with a lock of human hair, one leather wrap with many strands, one native gun flint, one blue glass faceted bead fragment, one cuprous tinkler cone with fabric tie, two pieces of bison hide with fur, three copper-stained pieces of leather, one lot of ferrous metal fragments, one lot of unidentified hair or fur, one lot of sediment, and one small unidentifiable bone fragment. On an unknown date, likely 1929-1931, these objects were removed from either the Fort Clark site in Mercer County, ND, or the Greenshield site in Oliver County, ND. The items were collected by Alfred Bowers, then later stored at the University of Chicago. They were transferred from the University of Chicago to the Illinois State Museum sometime prior to 1973 with materials from the Greenshield site. Based on their similarity to funerary objects from other Arikara sites, these 19 items are reasonably believed to be unassociated funerary objects from the late-18th century Arikara occupation of either the Fort Clark or Greenshield sites. The objects are consistent with those found from burial contexts at other Arikara sites. Today the Arikara are part of the Three Affiliated Tribes of the Fort Berthold Reservation, North Dakota.

Determinations

The Illinois State Museum has determined that:

• The 19 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Three Affiliated Tribes of the Fort Berthold Reservation, North Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 16, 2025. If competing requests for repatriation are received, the Illinois State Museum must determine the most appropriate requestor prior to repatriation. Requests for joint repatriation of the cultural items are considered a single request and not competing requests. The Illinois State Museum is responsible for sending a copy of this notice to the Indian Tribes and Native Hawaiian organizations identified in this notice and to any other consulting parties.

Authority: Native American Graves Protection and Repatriation Act, 25 U.S.C. 3004 and the implementing regulations, 43 CFR 10.9.

Dated: January 23, 2025.
Melanie O'Brien,
Manager, National NAGPRA Program.

[FR Doc. 2025-04191 Filed 3-14-25; 8:45 am]

BILLING CODE 4312-52-P